DEPARTMENT OF THE INTERIOR

U.S. Geological Survey

[GX12EB00A181000]

Agency Information Collection Activities: Submitted for Office of Management and Budget (OMB) Review; Comment Request

AGENCY: U.S. Geological Survey (USGS), Interior.

ACTION: Notice of an extension of a currently approved information collection (1028-0085).

SUMMARY: To comply with the Paperwork Reduction Act of 1995 (PRA), the U.S. Geological Survey (USGS) is inviting comments on an information collection request (ICR) that we have sent to the Office of Management and Budget (OMB) for review and approval. The ICR concerns the paperwork requirements for the National Land Remote Sensing Education, Outreach and Research Activity (NLRSEORA) and describes the nature of the collection and the estimated burden and cost. As required by the PRA, and as part of our continuing efforts to reduce paperwork and respondent burden, we invite the general public and other Federal agencies to take this opportunity to comment on this ICR. This Information Collection is scheduled to expire on February 29, 2012.

DATES: Submit written comments by February 27, 2012.

ADDRESSES: Please submit comments on this information collection directly to the Office of Management and Budget (OMB) Office of Information and Regulatory Affairs, Attention: Desk Officer for the Department of the Interior via email [OIRA_DOCKET@omb.eop.gov]; or fax (202) 395-5806; and identify your submission as number 1028-0085. Please also submit a copy of your comments to Shari Baloch, USGS Information Collection Clearance Officer, 12201 Sunrise Valley Drive, Reston, VA 20192, MS 807; (703) 648-7199 (fax); or smbaloch@usgs.gov (email). Please reference Information Collection number 1028-0085, NLRSEORA in the subject line.

FOR FURTHER INFORMATION CONTACT: To request additional information concerning this ICR, contact Thomas Cecere by email at tcecere@usgs.gov; by mail at U.S. Geological Survey, MS 517 National Center, Reston, VA 20192 or by telephone at (703) 648-5551.

SUPPLEMENTARY INFORMATION: Title: National Land Remote Sensing Education, Outreach and Research Activity (NLRSEORA).

OMB Control Number: 1028-0085.

Abstract: The Land Remote Sensing Education, Outreach and Research Activity (NLRSEORA) is an effort that involves the development of a U.S. National consortium in building the capability to receive, process and archive remotely sensed data for the purpose of providing access to university and State organizations in a ready to use form; and to expand the science of remote sensing through education, research/applications development and outreach in areas such as environmental monitoring, climate change research, natural resource management and disaster analysis. Respondents are submitting proposals to acquire funding for a National (U.S.) program to promote the uses of space-based land remote sensing data and technologies through education and outreach at the State and local level and through university based and collaborative research projects. The information collected will ensure that sufficient and relevant information is available to evaluate and select a proposal for funding. A panel of USGS geography program managers and scientists will review each proposal to evaluate the technical merit, requirements, and priorities identified in the program's call for proposals.

This notice concerns the collection of information that is sufficient and relevant to evaluate and select proposals for funding. We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked. We intend to release the project abstracts and primary investigators for awarded/funded projects only.

Frequency of Collection: On-occasion.

Affected Public: Non-profit organizations.

Respondent Obligation: Voluntary (necessary to receive benefits).

Estimated Number and Description of Respondents: We expect to receive approximately 10 proposals during the grant application process. We anticipate issuing 1 grant per year. The program is open to non-profit organizations.

Estimated Number of Responses: Approximately 10 applications and two reports per year.

Estimated Completion Time per Response: We expect to receive approximately 10 applications per year, taking each applicant approximately 24 hours to complete, totaling 240 burden hours. We anticipate awarding one (1) grant per year. The grantee will be required to submit an interim Annual Progress Report to the designated USGS Project Officer within 90 days of the end of the project period and a final report on or before 90 working days after the expiration of the agreement. We estimate that it will take approximately 48 hours to complete and submit both reports.

Annual Burden Hours: 288 hours per year.

Estimated Reporting and Recordkeeping “Non-Hour Cost” Burden: We have not identified any “non-hour cost” burdens associated with this collection of information.

Public Disclosure Statement: The PRA (44 U.S.C. 3501, et seq.) provides that an agency may not conduct or sponsor; and you are not required to respond to, a collection of information unless it displays a currently valid OMB control number. Until OMB approves a collection of information, you are not obligated to respond.

Comments: To comply with the public consultation process, on October 21, 2011, we published a Federal Register notice (76 FR 65529) announcing our intent to submit this information collection to OMB for approval. In that notice we solicited public comments for 60 days, ending on December 20, 2011. We did not receive any public comments in response to the notice.

We again invite comments concerning this information collection on:

(1) Whether or not the collection of information is necessary, including whether or not the information will have practical utility;

(2) the accuracy of our estimate of the burden for this collection of information;

(3) ways to enhance the quality, utility, and clarity of the information to be collected; and

(4) ways to minimize the burden of the collection of information on respondents. Please note that the comments submitted in response to this notice are a matter of public record. Before including your address, phone number, email address, or other personal identifying information in your comment, you should be aware that your entire comment, including your personal identifying information, may be made publicly available at any time. While you can ask OMB in your comment to withhold your personal identifying information from public view, we cannot guarantee that it will be done.

Dated: January 20, 2012.
Bruce Quirk,
Program Coordinator, Land Remote Sensing Program, U.S. Geological Survey.

[FR Doc. 2012-1601 Filed 1-25-12; 8:45 am]

BILLING CODE 4310-AM-P